DEPARTMENT OF JUSTICE

Office of Justice Programs

Agency Information Collection Activities: Proposed Collection; Comments Requested

ACTION: 60-day notice of information collection under review: Arrestee Drug Abuse Monitoring (ADAM) program questionnaire.

The Department of Justice (DOJ), Office of Justice Programs (OJP), National Institute of Justice (NIJ), has submitted the following information collection request to the Office of Management and Budget (OMB) for review and clearance in accordance with the Paperwork Reduction Act of 1995. The proposed information collection is published to obtain comments from the public and affected agencies. Comments are encouraged and will be accepted for “sixty days” until July 18, 2005. This process is conducted in accordance with 5 CFR 1320.10.

If you have comments especially on the estimated public burden or associated response time, suggestions, or need a copy of the proposed information collection instrument with instructions or additional information, please contact Christine Crossland, Senior Social Science Analyst, National Institute of Justice, 810 Seventh Street, NW., Room 7111, Washington, DC 20531 or by e-mail at Christine.Crossland@usdoj.gov.

Written comments and suggestions from the public and affected agencies concerning the proposed collection of information are encouraged. Your comments should address one or more of the following four points:

—Evaluate whether the proposed collection of information is necessary for the proper performance of the functions of the agency, including whether the information will have any practical utility;

—Evaluate the accuracy of the agency's estimate of the burden of the proposed collection of information, including the validity of the methodology and assumptions used;

—Enhance the quality, utility, and clarity of the information to be collected; and

—Minimize the burden of collection of information on those who are to respond, including through the use of appropriate automated, electronic, mechanical, or other technological collection techniques or other forms of information technology, e.g., permitting electronic submission of responses.

Overview of this information collection:

(1) Type of Information Collection: Extension of a currently approved collection.

(2) Title of the Form/Collection: Arrestee Drug Abuse Monitoring (ADAM) Program Questionnaire.

(3) Agency form number, if any and the applicable components of the Department of Justice sponsoring the collection: The form number is AD-1. The sponsoring component of the Department of Justice is the Office of Research and Evaluation, National Institute of Justice.

(4) Affected public who will be asked or required to respond, as well as a brief abstract: Misdemeanor and felony arrestees in city and county jails. The program monitors the extent and types of drug use among arrestees. Data are collected at each research site three times a year based on a county-based representative sample of arrestees. Participation is voluntary and confidential and data collected include a personal interview and urine specimen.

(5) An estimate of the total number of respondents and amount of time estimated for an average respondent to respond/reply: It is estimated that 60,000 respondents will complete each form within approximately 23 minutes.

(6) An estimate of the total public burden (in hours) associated with the collection: There are an estimated 23,000 total annual burden hours associated with this collection.

FOR FURTHER INFORMATION CONTACT: Brenda E. Dyer, Department Clearance Officer, United States Department of Justice, Justice Management Division, Policy and Planning Staff, Patrick Henry Building, Suite 1600, 601 D Street, NW., Washington, DC 20530.

Dated: May 12, 2005.
Brenda E. Dyer,
Department Clearance Officer, Department of Justice.

[FR Doc. 05-9969 Filed 5-18-05; 8:45 am]

BILLING CODE 4410-18-P